DEPARTMENT OF TRANSPORTATION

Federal Aviation Administration

PS-ACE100-2002-007, Policy Statement on Pitot Heat Indication Systems for 14 CFR Part 23, § 23.1326(b)(1)

AGENCY: Federal Aviation Administration, DOT.

ACTION: Notice of issuance of policy

SUMMARY: This notice announces the issuance of PS-ACE100-2002-007. This Policy Statement clarifies AC 23-17A and provides guidance pertaining to an Equivalent Level of Safety (ELOS) for 14 CFR, part 23, § 23.1326(b)(1), Pitot Heat Indication Systems. This was issued for Public Comment on October 28, 2003. No comments were received.

DATES: PS-ACE100-2002-007 was issued by the Manager, Small Airplane Directorate on August 5, 2004.

How to Obtain Copies: A paper copy of PS-ACE100-2002-007 may be obtained by contacting Mr. Leslie B. Taylor, Standards Office, Small Airplane Directorate, Aircraft Certification Service, Kansas City, Missouri 64106, telephone (816) 329-4134, fax (816) 329-4090. The policy will also be available on the Internet at http://www.airweb.faa.gov/policy.

Issued in Kansas City, Missouri on August 5, 2004.
Dorenda D. Baker,
Manager, Small Airplane Directorate, Aircraft Certification Service.

[FR Doc. 04-18952 Filed 8-17-04; 8:45 am]

BILLING CODE 4910-13-P